DEPARTMENT OF COMMERCE

International Trade Administration

[A-337-804]

Certain Preserved Mushrooms from Chile: Rescission of Antidumping Duty Administrative Review

AGENCY: Import Administration, International Trade Administration, Department of Commerce.

ACTION: Notice of rescission of antidumping duty administrative review for the period of December 1, 2000, through November 30, 2001.

EFFECTIVE DATE: March 19, 2002.

FOR FURTHER INFORMATION CONTACT: David J. Goldberger or Sophie Castro, Import Administration, International Trade Administration, U.S. Department of Commerce, 14th Street and Constitution Avenue, NW, Washington, DC 20230; telephone: (202) 482-4136 or (202) 482-0588, respectively.

SUPPLEMENTARY INFORMATION:

Applicable Statute

Unless otherwise indicated, all citations to the Tariff Act of 1930, as amended (the Act), are references to the provisions effective January 1, 1995, the effective date of the amendments made to the Act by the Uruguay Round Agreements Act. In addition, unless otherwise indicated, all citations to the Department of Commerce's regulations are to 19 CFR part 351 (2001).

Background

On December 3, 2001, the Department published in the Federal Register (66 FR 60183) a notice of “Opportunity To Request Administrative Review” of the antidumping duty order on certain preserved mushrooms from Chile for the period December 1, 2000, through November 30, 2001. On December 28, 2001, the Department received a timely request from the petitioner ¹ that we conduct an administrative review of the above-referenced antidumping duty order for the period December 1, 2000, through November 30, 2001, for the following companies: Nature's Farm Products (Chile) S.A., Ravine Foods and Compania Envasadora del Atlanitco. On January 29, 2002, the Department published a notice of initiation of an administrative review of the antidumping duty order on certain preserved mushrooms from Chile with respect to these companies. See Initiation of Antidumping and Countervailing Duty Administrative Reviews, 67 FR 4236.

¹ The petitioner is the Coalition for Fair Preserved Mushroom Trade which includes the American Mushroom Institute and the following domestic companies: L.K. Bowman, Inc., Modern Mushroom Farms, Inc., Monterey Mushrooms, Inc., Mount Laurel Canning Corp., Mushroom Canning Company, Southwood Farms, Sunny Dell Foods, Inc., and United Canning Corp.

Rescission of Review

On February 27, 2002, the petitioner timely withdrew its request for an administrative review of these companies' sales during the above-referenced period. Section 351.213(d)(1) of the Department's regulations stipulates that the Secretary may permit a party that requests a review to withdraw the request within 90 days of the date of publication of notice of initiation of the requested review. In this case, the petitioner withdrew its request for review within the 90-day period. We have received no other submissions regarding the petitioner's withdrawal of its request for review. Therefore, we are rescinding this review of the antidumping duty order on certain preserved mushrooms from Chile for the period of December 1, 2000, through November 30, 2001. This notice is published in accordance with section 751 of the Act and 19 CFR 351.213(d)(4).

Dated: March 13, 2002.
Richard W. Moreland,
Deputy Assistant Secretary for Import Administration.

[FR Doc. 02-6602 Filed 3-18-02; 8:45 am]

BILLING CODE 3510-DS-P